DEPARTMENT OF HEALTH AND HUMAN SERVICES

Administration for Children and Families

Submission for OMB Review; Plan for Foster Care and Adoption Assistance—Title IV-E (OMB #0970-0433)

AGENCY: Children's Bureau, Administration for Children and Families, HHS.

ACTION: Request for public comment.

SUMMARY: The Children's Bureau (CB), Administration for Children and Families (ACF), U.S. Department of Health and Human Services (HHS), is requesting a 3-year extension of the Plan for Foster Care and Adoption Assistance—Title IV-E, (OMB#: 0970-0433, expiration 11/30/2022). This plan also incorporates the plan requirements for the optional Guardianship Assistance program, the Title IV-E Prevention Services plan and the Title IV-E Kinship Navigator program. There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: A title IV-E plan is required by section 471, part IV-E of the Social Security Act (the Act) for each public child welfare agency requesting federal funding for foster care, adoption assistance, and guardianship assistance under the Act. Section 479B of the Act provides for an Indian tribe, tribal organization, or tribal consortium (tribe) to operate a title IV-E program in the same manner as a state with minimal exceptions. The tribe must have an approved Title IV-E Plan. The Title IV-E Plan provides assurances the programs will be administered in conformity with the specific requirements stipulated in Title IV-E. The plan must include all applicable state or tribal statutory, regulatory, or policy references and citations for each requirement as well as supporting documentation. A title IV-E agency may use the pre-print format prepared by CB, or a different format, on the condition that the format used includes all of the Title IV-E Plan requirements.

Title IV-E of the Act was amended by Public Law 115-123, which included the Family First Prevention Services Act (FFPSA). FFPSA authorized new optional Title IV-E funding for time-limited (1 year) prevention services for mental health/substance abuse and in-home parent skill-based programs for (1) a child who is a candidate for foster care (as defined in section 475(13) of the Act), (2) pregnant/parenting foster youth, and (3) the parents/kin caregivers of those children and youth (sections 471(e), 474(a)(6), and 475(13) of the Act). Title IV-E prevention services must be rated as promising, supported, or well supported in accordance with HHS criteria and be approved by HHS (section 471(e)(4)(C) of the Act) as part of the Title IV-E Prevention Services Clearinghouse (section 476(d)(2) of the Act). A state or tribal Title IV-E agency electing to participate in the program must submit a 5-year Title IV-E Prevention Program Plan that meets the statutory requirements. (See Program Instructions ACYF-CB-PI-18-09 and ACYF-CB-PI-18-10 for more information.)

FFPSA also amended section 474(a)(7) of the Act to reimburse state and tribal Title IV-E agencies for a portion of the costs of operating kinship navigator programs that meet certain criteria. To qualify for funding under the Title IV-E Kinship Navigator Program, the program must meet the requirements of a kinship navigator program described in section 427(a)(1) of the Act. The Kinship Navigator Program must meet practice criteria of promising, supported, or well-supported in accordance with HHS criteria and be approved by HHS (section 471(e)(4)(C) of the Act). To begin participation in the Title IV-E Kinship Navigator Program, a Title IV-E agency must submit an attachment to its Title IV-E plan that specifies the kinship navigator model it has chosen to implement and the date on which the provision of program services began or will begin, and provide an assurance that the model meets the requirements of section 427(a)(1) of the Act, as well as a brief narrative describing how the program will be operated. (Please see Program Instruction ACYF-CB-PI-18-11 for additional information: https://www.acf.hhs.gov/cb/policy-guidance/pi-18-11.)

Respondents: State and tribal title IV- E agencies.

Annual Burden Estimates
Instrument | Annual number of respondents | Annual number of responses per respondent | Average burden hours per response | Annual burden hours
Title IV-E Plan | 17 | 1 | 16 | 272
Title IV-E prevention services plan | 12 | 1 | 5 | 60
Attachment to Title IV-E plan for Kinship Navigator Program | 15 | 1 | 1 | 15

Estimated Total Annual Burden Hours: 347.

Authority: Title IV-E of the Social Security Act as amended by Public Law 115- 123 enacted February 9, 2018.

Mary B. Jones,
ACF/OPRE Certifying Officer.

[FR Doc. 2022-10652 Filed 5-17-22; 8:45 am]

BILLING CODE 4184-01-P